NATIONAL SCIENCE FOUNDATION

Sunshine Act Meeting; National Science Board

The National Science Board's Committee on Awards and Facilities, pursuant to NSF regulations (45 CFR part 614), the National Science Foundation Act, as amended (42 U.S.C. 1862n-5), and the Government in the Sunshine Act (5 U.S.C. 552b), hereby gives notice that its closed meeting scheduled for April 11, 2017 from 11:00 a.m. to 12:00 p.m., has been cancelled. The meeting notice originally appeared at 83 FR 15374 (March 28, 2017).

SUPPLEMENTARY INFORMATION: Meeting information and updates (time, place, subject or status of meeting) may be found at http://www.nsf.gov/nsb/meetings/notices.jsp. Point of contact for this meeting is: Elise Lipkowitz, 4201 Wilson Blvd., Arlington, VA 22230. Telephone: (703) 292-7000.

Chris Blair,
Executive Assistant to the NSB Office.

[FR Doc. 2017-07098 Filed 4-5-17; 11:15 am]

BILLING CODE 7555-01-P